DEPARTMENT OF DEFENSE

Office of the Secretary

Sunshine Act; Meeting of the President's Commission on Care for America's Returning Wounded Warriors

AGENCY: Department of Defense.

ACTION: Federal Advisory Committee Meeting Notice.

SUMMARY: Pursuant to the Federal Advisory Committee Act of 1972 (5 U.S.C., Appendix, as amended), the Sunshine in the Government Act of 1976 (5 U.S.C. 552b, as amended) and 41 Code of Federal Regulations (CFR) §§ 102-3.140 thorough 160, the Department of Defense announces the forthcoming public meeting:

Name of Commission: President's Commission on Care for America's Returning Wounded Warriors (hereafter referred to as the Commission).

Date of Meeting: July 16, 2007.

Time of Meeting: 10 a.m. to (To Be Determined).

Place of Meeting: Ronald Reagan Building and International Trade Center, 1300 Pennsylvania Avenue, NW., Washington, DC 20004.

Purpose of Meeting: Review and evaluate the Commission's report and the findings and recommendations related to the Commission's mission to examine the care provided to wounded service members.

Agenda:

9 a.m. to 9:45 a.m.—Administrative Work Meeting (Not Open to the Public).

10 a.m.—(Public Session).

10 a.m.—Review and Evaluation of Commissions Findings and Recommendations.

End: TBD.

Subject to the availability of seating, this meeting is open to the public. The Commission will be discussing its final report and recommendations, consequently there will be no oral public forum. Any person desiring to make a written submission must provide the point of contact listed below with one (1) copy of the written submission by 11 July 2007 5 p.m. and one copy of any material intended for distribution at the meeting. Point of Contact is Teresa Barnes or Leslie Smith. Telephone number is toll free (877) 588-2035 or fax statements (703) 588-2046.

FOR FURTHER INFORMATION ON SUBMITTING STATEMENTS CONTACT: Teresa Barnes or Leslie Smith, toll free (877) 588-2035 or fax statements (703) 588-2046.

Dated: June 26, 2007.
C.R. Choate,
Alternate OSD Federal Register Liaison Officer, Department of Defense.

[FR Doc. 07-3209 Filed 6-27-07; 11:10 am]

BILLING CODE 5007-06-M